INTERNATIONAL TRADE COMMISSION

[USITC SE-17-053]

Sunshine Act Meetings

Agency Holding the Meeting: United States International Trade Commission.

TIME AND DATE: November 21, 2017 at 1:00 p.m.

PLACE: Room 101, 500 E Street SW., Washington, DC 20436; Telephone: (202) 205-2000.

STATUS: Open to the public.

MATTERS TO BE CONSIDERED: 1. Agendas for future meetings: None.

2. Minutes.

3. Ratification List.

4. Remedy recommendations in Inv. No. TA-201-76 (Remedy) (Large Residential Washers).

5. Outstanding action jackets: None.

In accordance with Commission policy, subject matter listed above, not disposed of at the scheduled meeting, may be carried over to the agenda of the following meeting.

By order of the Commission.
Issued: November 13, 2017.
William R. Bishop,
Supervisory Hearings and Information Officer.

[FR Doc. 2017-24975 Filed 11-14-17; 4:15 pm]

BILLING CODE 7020-02-P